DEPARTMENT OF HEALTH AND HUMAN SERVICES

Health Resources and Services Administration

Notice of Single-Case Deviation from Competition Requirements: Transfer of Grantee Request for the Detroit Healthy Start Program, Detroit, MI

AGENCY: Health Resources and Services Administration (HRSA), Department of Health and Human Services (HHS).

ACTION: Notice of Single-Case Deviation from Competition Requirements: Transfer of Grantee Request for the Detroit Healthy Start Program, Detroit, MI, Grant Number H49MC00147.

SUMMARY: HRSA will be issuing a grantee transfer without competition for the Detroit Michigan Healthy Start program to the Institute for Population Health (IPH). The IPH will assume responsibility for the Healthy Start program and receive year 5 funding in the amount of $1,575,000, from Grant Number H49MC00147, during the budget period of 6/1/2013-5/31/2014 to support the objectives of the Eliminating Disparities in Perinatal Health Healthy Start Program.

The Eliminating Disparities in Perinatal Health Healthy Start Program (H49), CFDA No. 93.926, is authorized by the Public Health Service Act, Title III, Part D, Section 330H (42 USC 254c-8).

The purpose of the Eliminating Disparities in Perinatal Health Healthy Start Program is to address significant disparities in perinatal health. Differences in perinatal health indicators may occur by virtue of education, income, disability, or living in rural/isolated areas. To address disparities and the factors contributing to them, project services have been designed to cover the pregnancy and interconceptional phases for women and infants residing in the proposed project area. In order to promote longer interconceptional periods and prevent relapses of risk behaviors, the women and infants are to be followed through the infant's second year of life and/or two years following delivery.

SUPPLEMENTARY INFORMATION: Intended Recipients of the Award: The Institute for Population Health will assume responsibilities associated with the grant and all associated funding will be transferred to the Institute for Population Health.

Amount of the Non-Competitive Award: $1,575,000

CFDA Number: 93.926

Current Project Period: 06/01/2009—05/31/2014

Period of Grantee Transfer Funding: 6/1/2013-5/31/2014

Authority: Public Health Service Act, Title III, Part D, Section 330H (42 U.S.C. 254c-8).

Justification: HRSA is transferring responsibility of the Detroit Healthy Start Program to the Institute for Population Health for the purpose of continuing Healthy Start services, including prenatal and interconception care, to men, women, infants, and children residing in Wayne County. The current grantee agency, the Detroit Department of Health and Wellness Promotion (DHWP) is phasing out its provision of direct public health services and will no longer have the ability to manage the Healthy Start program. Currently in year 4 of a 5-year project period, the Detroit Healthy Start Program is funded at a total cost of $1,575,000 per year to provide core services to residents of Wayne County. The purpose of the project is to improve the health and well-being of the men and women of childbearing age, and the children and infants living in the project area who are at a risk for morbidity and mortality. The project goals will be achieved by assuring that childbearing and rearing families receive quality, comprehensive, health and supportive services.

The Institute for Population Health was established by the Health Department leadership to assure public health services remain available to residents of the City of Detroit. The Institute oversees the Mayors' Task Force for the Well-Being of Children and Families whose vision ensures that “All families with children have access to the resources and supports that empower them to ensure their well-being.” As part of the grant transfer request, the Mayors' Task Force for the Well-Being of Children and Families will assume the responsibilities of the Detroit Healthy Start Consortium and provide leadership in the promotion of policies and practices that support families with children, seek opportunities to strengthen community capacity building and collective impact, and facilitate systems integration through ongoing communication and collaboration with key partners and stakeholders.

FOR FURTHER INFORMATION CONTACT: Benita Baker, MHS, Division of Healthy Start and Perinatal Services, Maternal and Child Health Bureau, Health Resources and Services Administration, 5600 Fishers Lane, Room 13-91, Rockville, Maryland 20857; BBaker@hrsa.gov.

Grantee/organization name | Grant No. | State | FY 2013 authorized funding level | FY 2013 estimated funding level
Institute for Population Health | H49MC00147 | MI | $1,575,000 | $1,575,000

Dated: July 2, 2013.
Mary K. Wakefield,
Administrator.

[FR Doc. 2013-16492 Filed 7-8-13; 8:45 am]

BILLING CODE 4165-15-P